DEPARTMENT OF VETERANS AFFAIRS

[OMB Control No. 2900-New (VBBS)]

Proposed Information Collection Activity: Proposed Collection; Comment Request

AGENCY: Office of Policy, Planning and Preparedness, Department of Veterans Affairs.

ACTION: Notice.

SUMMARY: The Office of Policy, Planning and Preparedness (OPP&P), Department of Veterans Affairs (VA), is announcing an opportunity for public comment on the proposed collection of certain information by the agency. Under the Paperwork Reduction Act (PRA) of 1995, Federal agencies are required to publish notice in the Federal Register concerning each proposed collection of information, including each proposed new collection of information, and allow 60 days for public comment in response to the notice. This notice solicits comments on information needed to determine whether burial needs of veterans and eligible family members are met.

DATES: Written comments and recommendations on the proposed collection of information should be received on or before July 13, 2007.

ADDRESSES: Submit written comments on the collection of information through www.Regulations.gov; or to Clarisa Rodrigues Coelho, Office of Policy and Planning, Department of Veterans Affairs, 810 Vermont Ave., NW., Washington, DC 20420 or e-mail clarisa.rodriguesCoelho@va.gov. Please refer to “OMB Control No. 2900-NEW (VBBS)” in any correspondence. During the comment period, comments may be viewed online through the Federal docket Management System (FDMS) at www.Regulations.gov.

FOR FURTHER INFORMATION CONTACT: Clarisa Rodrigues Coelho at (202) 273-6499 or FAX (202) 273-5993.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, the Office of Policy, Planning and Preparedness invites comments on: (1) Whether the proposed collection of information is necessary for the proper performance of VA's functions, including whether the information will have practical utility; (2) the accuracy of VA's estimate of the burden of the proposed collection of information; (3) ways to enhance the quality, utility, and clarity of the information to be collected; and (4) ways to minimize the burden of the collection of information on respondents, including through the use of automated collection techniques or the use of other forms of information technology.

Title: Veterans Burial Benefits Survey.

OMB Control Number: 2900-New (VBBS).

Type of Review: New collection.

Abstract: The data collected by the Veterans Burial Benefits Survey will be used to determine whether the burial needs of veterans and eligible family members are met, to provide veterans and their families with timely and accurate symbolic expressions of remembrance, and ensue that national cemeteries are maintained as shrines dedicated to preserving our Nation's history, nurturing patriotism, and honoring the service and sacrifice of veterans.

Affected Public: Individuals or households.

Estimated Total Annual Burden: 7,219 hours.

Estimated Average Burden Per Respondent: 15 minutes.

Frequency of Response: One-time.

Estimated Number of Respondents: 28,878.

Dated: May 1, 2007.
By direction of the Secretary.
Denise McLamb,
Program Analyst, Records Management Service.

[FR Doc. 07-2383 Filed 5-11-07; 8:45 am]

BILLING CODE 8320-01-P